NUCLEAR REGULATORY COMMISSION

[NRC-2009-0469; Docket No. 030-04552]

Notice of Availability of Environmental Assessment and Finding of No Significant Impact for License Amendment to Byproduct Materials License No. 19-10306-01 for Unrestricted Release of the Department of the Army's Rad Yard Facility Located in the Bush River Study Area, Aberdeen Proving Ground, MD

AGENCY: Nuclear Regulatory Commission.

ACTION: Issuance of Environmental Assessment and Finding of No Significant Impact for license amendment.

FOR FURTHER INFORMATION CONTACT: Dennis Lawyer, Health Physicist, Commercial and R&D Branch, Division of Nuclear Materials Safety, Region I, 475 Allendale Road, King of Prussia, Pennsylvania; telephone 610-337-5366; fax number 610-337-5269 or by e-mail: dennis.lawyer@nrc.gov.

SUPPLEMENTARY INFORMATION:

I. Introduction

The U.S. Nuclear Regulatory Commission (NRC) is considering the issuance of a license amendment to Byproduct Materials License No. 19-10306-01. This license is held by the Department of the Army, U.S. Army Research, Development and Engineering Command (the Licensee), for its 5-acre Rad Yard Facility (the Facility), located in the Bush River Study Area, Aberdeen Proving Ground, Maryland. Issuance of the amendment would authorize release of the Rad Yard Facility for unrestricted use. The Licensee requested this action in a letter dated September 18, 2008. The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the Licensee's September 18, 2008, license amendment request, resulting in release of the Rad Yard Facility for unrestricted use. License No. 19-10306-01 was issued on October 27, 1964, pursuant to 10 CFR Part 30, and has been amended periodically since that time. This license authorized the Licensee to use unsealed byproduct materials at the Rad Yard Facility for purposes of storing and processing radioactive waste. The license also authorized use of licensed material at other locations that will not be affected by this action; therefore, the license will not be terminated if the proposed action is approved.

The Rad Yard Facility is situated on approximately five acres and consists of two vacated small buildings, abandoned-in-place concrete slabs, sumps, and a waste water tank. The Facility is located in within the Army's Aberdeen Proving Ground, Edgewood Area and borders on the Bush River.

In October 2002, the Licensee ceased licensed activities at the Facility and initiated a survey and decontamination of the Facility. The Licensee contracted with Weston Solutions Inc. to perform remediation under reciprocity and their New Mexico License No. RD-245-20. Weston Solutions Inc. performed the decontamination in accordance with their NRC-approved, operating radiation safety procedures. The Licensee conducted surveys of the Facility and provided information to the NRC to demonstrate that it meets the criteria in Subpart E of 10 CFR Part 20 for unrestricted release.

Need for the Proposed Action

The Licensee has ceased conducting licensed activities at the Facility, and seeks the unrestricted use of its Facility.

Environmental Impacts of the Proposed Action

The historical review of licensed activities conducted at the Facility shows that such activities involved use of the following radionuclides with half-lives greater than 120 days: carbon 14, technetium 99, cobalt 60, strontium 90, and cesium 137. Prior to performing the final status survey, the Licensee's contractor conducted decontamination activities, as necessary, in the areas of the Facility affected by these radionuclides.

The Licensee conducted a final status survey on November 14 through December 12, 2007, February 12, 2008, and May 22, 2008. This survey included soil sampling and surface readings on the remaining building components at the Facility. The final status survey report was attached to the Licensee's amendment request dated September 18, 2008. The Licensee elected to demonstrate compliance with the radiological criteria for unrestricted release as specified in 10 CFR 20.1402 by developing site-specific derived concentration guideline levels (DCGLs), based in part on the screening approach described in NUREG-1757, “Consolidated NMSS Decommissioning Guidance,” Volume 2. The DCGL values were 5 pCi/g for cesium 137 and 0.5 pCi/g for cobalt 60, which would also be sufficient to mitigate the carbon 14, technetium 99 and strontium 90 levels. The Licensee's final status survey results were below these DCGLs and are in compliance with the As Low As Reasonably Achievable (ALARA) requirement of 10 CFR 20.1402. The NRC thus finds that the Licensee's final status survey results are acceptable.

The NRC staff conducted a confirmatory survey and sampling on November 13-14, 2007, and May 22, 2008. One of the building surface confirmatory survey results exceeded the DCGLs established for the Facility. Upon discovery, the licensee performed decontamination of the location and increased the measurement protocol to perform a 100 percent scan of the building. No other confirmatory survey or sample results exceeded the DCGLs established for the Facility. Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 (ML042310492, ML042320379, and ML042330385). The Licensee also considered and appropriately accounted for the dose contribution from previous site releases. The calculation was submitted in a letter dated January 14, 2009. The staff finds there were no significant environmental impacts from the use of radioactive material at the Facility. The NRC staff reviewed the docket file records and the final status survey report to identify any non-radiological hazards that may have impacted the environment surrounding the Facility. The site has been impacted by arsenic contamination. The Army intends to remediate the arsenic contamination following the NRC-approved release of the facility for unrestricted use. The NRC has identified no other radiological or non-radiological activities in the area that could result in cumulative environmental impacts.

The NRC staff finds that the proposed release of the Facility for unrestricted use and the amendment of the NRC materials license is in compliance with 10 CFR 20.1402, including the impact of residual radioactivity at previously-released site locations of use. Based on its review, the staff considered the impact of the residual radioactivity at the Facility and concluded that the proposed action will not have a significant effect on the quality of the human environment.

Environmental Impacts of the Alternatives to the Proposed Action

Due to the largely administrative nature of the proposed action, its environmental impacts are small. Therefore, the only alternative the staff considered is the no-action alternative, under which the staff would leave things as they are by simply denying the amendment request. This no-action alternative is not feasible because it conflicts with 10 CFR 30.36(d), requiring that decommissioning of byproduct material facilities be completed and approved by the NRC after licensed activities cease. The NRC's analysis of the Licensee's final status survey data confirmed that the Facility meets the requirements of 10 CFR 20.1402 for unrestricted release. Additionally, denying the amendment request would result in no change in current environmental impacts. The environmental impacts of the proposed action and the no-action alternative are therefore similar, and the no-action alternative is accordingly not further considered.

Conclusion

The NRC staff has concluded that the proposed action is consistent with the NRC's unrestricted release criteria specified in 10 CFR 20.1402. Because the proposed action will not significantly impact the quality of the human environment, the NRC staff concludes that the proposed action is the preferred alternative.

Agencies and Persons Consulted

NRC provided a draft of this Environmental Assessment to the Maryland Department of the Environment for review on June 12, 2009. On June 23, 2009, the Maryland Department of the Environment's Air and Radiation Management Administration and Hazardous Waste Administration responded by electronic mail. The State agreed with the conclusions of the EA, and otherwise had no comments.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at: http://www.nrc.gov/reading-rm/adams.html. From this site, you can access the NRC's Agencywide Document Access and Management System (ADAMS), which provides text and image files of NRC's public documents. The documents related to this action are listed below, along with their ADAMS accession numbers.

1. NUREG-1757, “Consolidated NMSS Decommissioning Guidance;”

2. Title 10, Code of Federal Regulations, Part 20, Subpart E, “Radiological Criteria for License Termination;”

3. Title 10, Code of Federal Regulations, Part 51, “Environmental Protection Regulations for Domestic Licensing and Related Regulatory Functions;”

4. NUREG-1496, “Generic Environmental Impact Statement in Support of Rulemaking on Radiological Criteria for License Termination of NRC-Licensed Nuclear Facilities;”

5. Final Status Survey Report, Bush River Study Area, Radioactive Waste Management Facility dated September 18, 2008 (ML082700930);

6. Final Status Survey Plan, Bush River Study Area, Radioactive Waste Management Facility dated October 2007 (ML073090556);

7. Bush River Study Area, Removal Action report for Non-Time Critical Removal Action Radioactive Waste Management Facility, Final dated January 2007 (ML071520147);

8. Department of the Army letter dated November 6, 2007, Final Status Survey Plan Revision 1 (ML073130509);

9. Department of the Army letter dated January 14, 2009 (ML090280503) with report (ML090280516);

10. ORISE Analytical Results dated August 21, 2009 (ML092510292); and

11. ORISE Analytical Results dated June 11, 2008 (ML081840212).

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at Region I, 475 Allendale Road, King of Prussia this 20th day of October 2009.
For the Nuclear Regulatory Commission.
James P. Dwyer,
Chief, Commercial and R&D Branch, Division of Nuclear Materials Safety, Region I.

[FR Doc. E9-25780 Filed 10-26-09; 8:45 am]

BILLING CODE 7590-01-P